DEPARTMENT OF JUSTICE

Notice of Lodging of Proposed Consent Decree Under the Comprehensive Environmental Response, Compensation, and Liability Act (CERCLA)

On May 23, 2024, the Department of Justice lodged a proposed consent decree with the United States District Court for the District of Colorado in the lawsuit entitled United States of America v. Union Carbide Corp. and Umetco Minerals Corp., Civil Action No. 1:24-cv-01463, Docket No. 2-1.

The proposed consent decree resolves claims alleged in the complaint against Union Carbide Corp. and Umetco Minerals Corp. (Defendants) under Section 107(a) of CERCLA for response costs incurred by the U.S. Environmental Protection Agency at the Uravan Uranium Project Superfund Site (Site), located in Montrose County, Colorado. The proposed consent decree requires Defendants to pay $600,000 to reimburse response costs incurred by the United States and to comply with institutional controls and other requirements for property owned within the Site.

The publication of this notice opens a period for public comment on the proposed consent decree. Comments on the proposed consent decree should be addressed to the Assistant Attorney General, Environmental and Natural Resources Division, and should refer to United States of America v. Union Carbide Corp., et al., D.J. Ref. No. 90-11-3-12130. All comments must be submitted no later than thirty (30) days after the publication date of this notice. Comments may be submitted either by email or mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed consent decree may be examined and downloaded at this Justice Department website: https://www.justice.gov/enrd/consent-decrees. If you require assistance accessing the proposed consent decree, you may request assistance by email or by mail to the addresses provided above for submitting comments.

Jeffrey Sands,
Deputy Section Chief, Environmental Enforcement Section, Environment and Natural Resources Division.

[FR Doc. 2024-12146 Filed 6-3-24; 8:45 am]

BILLING CODE 4410-15-P